DEPARTMENT OF HOMELAND SECURITY

Coast Guard

33 CFR Part 165

[Docket Number USCG-2024-0503]

RIN 1625-AA00

Safety Zone; Upper Galveston Bay, Kemah, TX

AGENCY: Coast Guard, DHS.

ACTION: Final rule.

SUMMARY: The Coast Guard is updating the location and description of a safety zone, and adding two annually recurring dates, for events at the Kemah Boardwalk Fireworks Display, in the Upper Galveston Bay in Kemah, Texas. The safety zone is needed to protect personnel vessels, and the marine environment from potential hazards created by the fireworks show. Entry of vessels or persons into this zone is prohibited unless specifically authorized by the Captain of the Port, Sector Houston-Galveston, or a designated representative.

DATES: This rule is effective September 5, 2024.

ADDRESSES: To view documents mentioned in this preamble as being available in the docket, go to https://www.regulations.gov, type USCG-2024-0503 in the search box and click “Search.” Next, in the Document Type column, select “Supporting & Related Material.”

FOR FURTHER INFORMATION CONTACT: If you have questions about this rule, call or email Marine Science Technician First Class Christopher C. Morgan, Sector Houston-Galveston Waterways Management Division; telephone 713-398-5823, Email houstonwwm@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard was informed that the city of Kemah will be conducting an annual fireworks display during the first week in September and on December 31 every year. The fireworks will be launched from a barge in the Upper Galveston Bay approximately 1,000 feet east of the Kemah Boardwalk in Kemah, TX. In response, on August 5, 2024, the Coast Guard published a notice of proposed rulemaking (NPRM) titled Safety Zone; Upper Galveston Bay, Kemah, TX (89 FR 63331). There we stated why we issued the NPRM and invited comments on our proposed regulatory action related to this fireworks display. During the comment period that ended August 20, 2024, we received 1 comment.

Under 5 U.S.C. 553(d)(3), the Coast Guard finds that good cause exists for making this rule effective less than 30 days after publication in the Federal Register. Delaying the effective date of this rule is impracticable because prompt action is needed to respond to the potential safety hazards associated with the fireworks display during the first week in September 2024.

III. Legal Authority and Need for Rule

The Coast Guard is issuing this rule under authority in 46 U.S.C. 70034. The Captain of the Port, Sector Houston-Galveston (COTP) has determined that potential hazards associated with the fireworks to be used in these annual recurring fireworks displays will be a safety concern for anyone within an 850-foot radius of the barge. The purpose of this rule is to ensure safety of persons, vessels and the navigable waters in the safety zone before, during, and after the scheduled event.

IV. Discussion of Comments, Changes, and the Rule

As noted above, we received 1 comment on our NPRM published August 5, 2024. There are no changes in the regulatory text of this rule from the proposed rule.

The comment that was received stated “[T]he record of environmental consideration has not been made available in the docket even though the notice states that it was. Request the CG upload the document and request a 30 day extension to allow public review of the document.” Due to time constraints for the upcoming display, and the fact that this is an already established safety zone for multiple other displays in the area throughout the year, a 30-day extension is not feasible or necessary. A final record of environmental consideration will be available for review on the docket.

The COTP is updating the location information for a recurring safety zone and adding two annually recurring event dates, one during the first week of September and another on December 31 The safety zone includes all navigable waters within 850 feet of a fireworks barge in the Upper Galveston Bay located approximately 1,000 feet east of Kemah Boardwalk in Kemah, TX. The safety zone is intended to ensure the safety of vessels and persons on these navigable waters during the scheduled fireworks displays. No vessel or person will be permitted to enter the safety zone without obtaining permission from the COTP or a designated representative. If permission is granted, all persons and vessels must comply with the lawful instructions of the COTP or designated representative. Designated representatives include commissioned, warrant, and petty officers of the U.S. Coast Guard.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, duration, and location of the safety zone. The safety zone will last during the scheduled fireworks events and covers an 850-foot radius from the fireworks barge in the navigable waters of Upper Galveston Bay, TX. The zone allows mariners to ask for permission to enter the safety zone via VHF radio or contacting the Command Center. The COTP or a designated representative will inform the public through broadcast notices to mariners of the enforcement period for the safety zone as well as any changes in the planned schedule.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. This rule involves a safety zone that prohibits entry without permission within 850 feet of a fireworks barge. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. In § 165.801, amend table 3, by revising item 3 to read as follows:

§ 165.801 Annual fireworks displays and other events in the Eighth Coast Guard District requiring safety zones.

* * * * *

Table 3 of § 165.801—Sector Houston-Galveston Annual and Recurring Safety Zones
Date | Sponsor/name | Sector Houston-Galveston location | Safety zone
* * * * * * *
3. July 4th; every Friday night in June and July; first week of September; December 31 | Kemah Boardwalk Fireworks Display, Kemah, TX | Kemah, TX | The area within an 850-foot radius of the fireworks barge located on the south side of Clear Creek Channel, 1000 feet east of Kemah Boardwalk in Kemah, TX.
* * * * * * *

* * * * *

Dated: August 29, 2024.
Keith M. Donohue,
Captain, U.S. Coast Guard, Captain of the Port, Sector Houston-Galveston.

[FR Doc. 2024-19945 Filed 9-4-24; 8:45 am]

BILLING CODE 9110-04-P